DEPARTMENT OF DEFENSE

Department of the Army

Environmental Impact Statement for Training and Public Land Withdrawal Extension, Fort Irwin, California

AGENCY: Department of the Army, Defense (DOD).

ACTION: Notice of Intent.

SUMMARY: The Department of the Army intends to prepare an Environmental Impact Statement (EIS) to analyze the environmental impacts resulting from modernization of training activities and improvement of training facilities at the National Training Center at Fort Irwin, California. The Army is also issuing this notice to inform the public that the EIS will serve as a Legislative Environmental Impact Statement (LEIS) to support extension of public land withdrawal for portions of Fort Irwin.

DATES: Comments must be sent by September 10, 2020.

ADDRESSES: Written comments should be forwarded to Dr. David Housman, NEPA Planner, Fort Irwin Directorate of Public Works, Environmental Division, Building 602, Fifth Street, Fort Irwin, CA 92310-5085 email: david.c.housman.civ@mail.mil

FOR FURTHER INFORMATION CONTACT: Mr. Muhammad Bari, Director, Directorate of Public Works, telephone (760) 380-3543; email: muhammad.a.bari.civ@mail.mil.

SUPPLEMENTARY INFORMATION: Fort Irwin consists of approximately 753,537 acres in the Mojave Desert in San Bernardino County in southern California. The U.S. Army National Training Center (NTC) at Fort Irwin provides combined arms training for maneuver Brigade Combat Teams (BCTs), including the Army's Stryker BCTs (SBCTs) and Armored BCTs (ABCTs). Training is also provided for joint military branches (Marine Corps, Navy, and Air Force), Army Reserve, National Guard units, and regular and transitional law enforcement units, as well as home station units. Due to its size, design, and terrain, Fort Irwin is one of the few places in the world that brigade-size units (5,000+ soldiers) can test their combat readiness.

Fort Irwin's mission is to train rotational training units (RTUs), joint, interagency, and multinational partners in order to fight and win in a complex world, while taking care of soldiers, civilians, and family members. To achieve this mission, NTC designs and executes training exercises that prepare brigade-level units for operational deployments. Up to 12 BCT rotations are executed per year.

The Army intends to prepare an EIS at Fort Irwin to analyze potential impacts from modernization of training and improvement of training infrastructure. Training changes are required to support new training doctrine that focuses on large Army formations operating against near-peer adversaries. In order to reflect weapon systems capabilities and evolving mission requirements, improvements need to be made to weapons ranges, urban operations training facilities, and communication infrastructure.

Approximately 110,000 acres of Fort Irwin training land areas are public lands withdrawn from all types of appropriation and reserved for military purposes under Public Law 107-107 (2001). This public land withdrawal terminates on December 28, 2026. The Army has identified a continuing military need for the land beyond the termination date and intends to request Congress to extend the withdrawal and reservation for military purposes for at least 25 years, or in the alternative, for an indefinite period until there is no longer a military need for the land. Upon a separate application by the Army, the Bureau of Land Management will file in the Federal Register a separate notice of withdrawal extension application. This EIS will be submitted to Congress to support the legislative request for extension of this withdrawal and reservation. The document will also serve as the EIS that will analyze training changes proposed for the withdrawn land.

The EIS will analyze alternatives, which consist of different magnitudes of implementation, and the No Action Alternative, under which there would be no modernization or improvement to training activities conducted at Fort Irwin. The no action alternative would also include the possibility that public land withdrawal extension would not occur and that portions of the installation would return to public domain. The proposed action includes an increase in training activities that reflects new mission requirements and improvement of training infrastructure. For Fort Irwin's Western Training Area, the EIS will consider a range of medium to heavy intensity training alternatives. In terms of withdrawal, the alternatives include extension of the current withdrawal and reservation for 25 years or indefinitely until there is no longer a military need for the land. All military activities under consideration would be conducted within the boundaries of the installation. Resource areas that may be impacted include air quality, airspace, traffic, noise, water resources, biological resources, cultural resources, socioeconomics, utilities, land use, and solid and hazardous materials and waste. Impacts to these resources may occur from changing the scope or magnitude of military training activities within the current Fort Irwin boundaries. The analysis will also consider the potential for cumulative environmental effects. Significant impacts could occur to biological and cultural resources.

Federal, state, and local agencies, Native Americans, Native American organizations, and the public are invited to be involved in the scoping process for the preparation of this EIS by participating in a scoping meeting or submitting written comments. Written comments must be sent within 30 days of publication of this Notice of Intent in the Federal Register. In response to the coronavirus (COVID-19) pandemic in the United States and the Center for Disease Control and Prevention recommendations for social distancing and avoiding large public gatherings, the Army will not hold in-person public scoping meetings for this action. Due to the COVID-19 pandemic and the need to maintain social distancing, Fort Irwin will host the public scoping meetings by telephone. Specific details of the telephone meetings will be announced in local media and on the Fort Irwin EIS website: https://aec.army.mil/index.php/irwin-nepa-meeting.

For those who do not have ready access to a computer or the internet, the scoping-related materials posted to the website will be made available upon request by mail. Inquiries, requests for scoping-related materials, and comments regarding the proposed action may be submitted by mail to Dr. David Housman, NEPA Planner, Fort Irwin Directorate of Public Works, Environmental Division, Building 602, Fifth Street, Fort Irwin, CA 92310-5085. Written scoping comments will be accepted at any time during process up until the public release of the Draft EIS. To ensure the Army has sufficient time to consider public input in the preparation of the Draft EIS, scoping comments should be submitted to the website or the address listed above by no later than thirty days after the date of this notice.

The public will also be invited to review and comment on the Draft EIS when it is released. Comments from the public will be considered before any decision is made regarding implementing the Proposed Action. The Bureau of Land Management will also organize public participation following publication of its notice of application for extension of the public land withdrawal.

Brenda S. Bowen,
Army Federal Register Liaison Officer.

[FR Doc. 2020-17528 Filed 8-10-20; 8:45 am]

BILLING CODE 5061-AP-P